NATIONAL FOUNDATION ON THE ARTS AND THE HUMANITIES

Arts Advisory Panel Meeting

AGENCY: National Endowment for the Arts, National Foundation on the Arts and Humanities.

ACTION: Notice of meeting.

SUMMARY: Pursuant to Section 10(a)(2) of the Federal Advisory Committee Act (Pub. L. 92-463), as amended, notice is hereby given that sixteen meetings of the Arts Advisory Panel to the National Council on the Arts will be held at the Nancy Hanks Center, 1100 Pennsylvania Avenue NW., Washington, DC 20506 as follows (ending times are approximate):

Arts Education (application review): In room 627. This meeting will be closed.

Dates: October 29-30, 2012; 9 a.m. to 5 p.m. EDT each day.

Design (application review): In room 714. This meeting will be closed.

Dates: October 30, 2012; 9 a.m. to 5:30 p.m. EDT.

Design (application review): In room 714. This meeting will be closed.

Dates: November 1, 2012, from 9 a.m. to 5:30 p.m. EDT.

Opera (application review): In room 716. This meeting will be closed.

Dates: November 1, 2012, from 9 a.m. to 5:30 p.m. EDT.

Arts Education (application review): In room 627. This meeting will be closed.

Dates: November 8, 2012. From 9 a.m. to 6 p.m. EST.

Presenting (application review): In room 714. This meeting will be closed.

Dates: November 8-9, 2012; 9 a.m. to 5:30 p.m. EST on November 8th and 9 a.m. to 3 p.m. EST on November 9th.

Theater & Musical Theater (application review): In room 716. This meeting will be closed.

Dates: November 8-9, 2012. From 9 a.m. to 5:30 p.m. EST on November 8th and from 9 a.m. to 3 p.m. EST on November 9th.

Theater & Musical Theater (application review): In room 714. This meeting will be closed.

Dates: November 13-14, 2012. From 9 a.m. to 5:30 p.m. EST on November 13th and from 9 a.m. to 3 p.m. EST on November 14th.

Local Arts Agencies (application review): In room 627. This meeting will be closed.

Dates: November 14, 2012. From 9 a.m. to 4 p.m. EST.

Arts Education (application review): In room 716. This meeting will be closed.

Dates: November 15, 2012. From 9 a.m. to 6 p.m. EST.

Dance (application review): In room 627. This meeting will be closed.

Dates: November 15, 2012. From 9 a.m. to 6 p.m. EST.

Folk and Traditional Arts (application review): In room 714. This meeting will be closed.

Dates: November 15, 2012. From 9 a.m. to 5:30 p.m. EST.

Museums (application review): In room 730. This meeting will be closed.

Dates: November 15, 2012. From 9 a.m. to 5:30 p.m. EST.

Dance (application review): In room 627, by teleconference. This meeting will be closed.

Dates: November 16, 2012. From 2 p.m. to 4 p.m. EST.

Folk and Traditional Arts (application review): In room 714. This meeting will be closed.

Dates: November 16, 2012. From 9 a.m. to 5:30 p.m. EST.

Museums (application review): In room 730. This meeting will be closed.

Dates: November 16, 2012. From 9 a.m. to 5:30 p.m. EST.

FOR FURTHER INFORMATION CONTACT: Further information with reference to these meetings can be obtained from Ms. Kathy Plowitz-Worden, Office of Guidelines & Panel Operations, National Endowment for the Arts, Washington, DC 20506; plowitzk@arts.gov or call 202/682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of Title 5, United States Code.

Dated: October 3, 2012.
Kathy Plowitz-Worden,
Panel Coordinator, National Endowment for the Arts.

[FR Doc. 2012-24846 Filed 10-9-12; 8:45 am]

BILLING CODE 7537-01-P